COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by a nonprofit agency employing persons who are blind or have other severe disabilities, and deletes products and service from the Procurement List previously furnished by such agencies.

DATES: Date added to and deleted from the Procurement List: May 20, 2018.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Additions

On 3/16/2018 (83 FR 52), the Committee for Purchase From People Who Are Blind or Severely Disabled published notice of proposed additions to the Procurement List.

After consideration of the material presented to it concerning capability of a qualified nonprofit agency to provide the products and impact of the addition on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the products to the Government.

2. The action will result in authorizing a small entity to furnish the products to the Government.

3. There are no known regulatory alternatives which would accomplish the objectives of the Javits-Wagner-O'Day Act (41 U.S.C. 8501-8506) in connection with the products proposed for addition to the Procurement List.

End of Certification

Accordingly, the following products are added to the Procurement List:

Product

NSN(s)—Product Name(s):

MR 3200-3599—Perimeter Merchandising Program, Hair Care Products, MR Series 3200-3599

Mandatory Source of Supply: Association for Vision Rehabilitation and Employment, Inc., Binghamton, NY

Mandatory for: The requirements of military commissaries and exchanges in accordance with the Code of Federal Regulations, 41 CFR 51-6.4.

Contracting Activity: Defense Commissary Agency

Distribution: C-List

Deletions

On 3/2/2018 (83 FR 42), 3/9/2018 (83 FR 47), and 3/16/2018 (83 FR 52), the Committee for Purchase From People Who Are Blind or Severely Disabled published notices of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s):

7520-01-483-8900—Paper Cutter, Rotary, Wood Base, Gray, 28.5″ Cutting Length

7520-01-483-8901—Paper Cutter, Rotary, Wood Base, Gray, 37.5″ Cutting Length

7520-01-483-8902—Paper Cutter, Rotary, Metal Base, Gray, 18″ Cutting Length

7520-01-483-8904—Paper Cutter, Rotary, Metal Base, Blue, 12″ Cutting Length

Mandatory Source of Supply: The Lighthouse for the Blind, Inc. (Seattle Lighthouse), Seattle, WA

Contracting Activity: General Services Administration, New York, NY

NSN(s)—Product Name(s): 8405-01-375-8999—Cap, Garrison, Air Force, Men's, Blue, 7⅞

Mandatory Source of Supply: Goodwill Industries of South Florida, Inc., Miami, FL

Contracting Activity: Defense Logistics Agency Troop Support

NSN(s)—Product Name(s):

8415-01-476-6346—Shirt, Underwear, Lightweight, SPEAR, Army, Black, LL

8415-01-476-6350—Shirt, Underwear, Lightweight, SPEAR, Army, Black, MR

8415-01-476-6359—Shirt, Underwear, Lightweight, SPEAR, Army, Green, MR

8415-01-476-6555—Shirt, Underwear, Lightweight, SPEAR, Army, Black, SR

8415-01-476-6556—Shirt, Underwear, Lightweight, SPEAR, Army, Black, XLL

8415-01-476-6557—Shirt, Underwear, Lightweight, SPEAR, Army, Black, XLR

Mandatory Source of Supply: Peckham Vocational Industries, Inc., Lansing, MI

Contracting Activity: Army Contracting Command—Aberdeen Proving Ground, Natick Contracting Division

Service

Service Type: Custodial/Grounds Maint/Refuse Removal/Snow Removal Service

Mandatory for: Naval Operations Support Center:

1089 E. Ninth Street, Cleveland, OH

800 Dan Street, Akron, OH

Mandatory Source of Supply: VGS, Inc., Cleveland, OH

Contracting Activity: Dept of the Navy, Naval FAC Engineering CMD MIDWEST

Amy Jensen,
Director, Business Operations.

[FR Doc. 2018-08321 Filed 4-19-18; 8:45 am]

BILLING CODE 6353-01-P